AGENCY FOR INTERNATIONAL DEVELOPMENT

Delegation of Authority Under Section 6501(b)(2) of the National Defense Authorization Act for Fiscal Year 2022

AGENCY: Agency for International Development.

ACTION: Notice.

SUMMARY: On January 17, 2023, President Biden delegated authority of approval vested in the President by the National Defense Authorization Act for Fiscal Year 2022 to designate an employee of the relevant Federal department or agency with fiduciary responsibility for United States contributions to the Coalition for Epidemic Preparedness Innovations (CEPI) to serve on the CEPI Investors Council and, if nominated, on the CEPI Board of Directors, as a representative of the United States. The President authorized and directed the Agency for International Development to publish this memorandum in the Federal Register. The text of the memorandum is set out below.

FOR FURTHER INFORMATION CONTACT: Allison Walker (alwalker@usaid.com, +1(202)368-1985).

SUPPLEMENTARY INFORMATION:

Memorandum for the Administrator of the United States Agency for International Development

SUBJECT: Delegation of Authority Under Section 6501(b)(2) of the National Defense Authorization Act for Fiscal Year 2022

By the authority vested in me as President by the Constitution and the laws of the United States of America, including section 301 of title 3, United States Code, I hereby delegate to the Administrator of the United States Agency for International Development the authority vested in the President by section 6501(b)(2) of the National Defense Authorization Act for Fiscal Year 2022 (Pub. L. 117-81) (22 U.S.C. 276c-5(b)) to designate an employee of the relevant Federal department or agency with fiduciary responsibility for United States contributions to the Coalition for Epidemic Preparedness Innovations (CEPI) to serve on the CEPI Investors Council and, if nominated, on the CEPI Board of Directors, as a representative of the United States. The delegation in this memorandum shall apply to any provision of any future public law that is the same or substantially the same as the provision referenced in this memorandum.

You are authorized and directed to publish this memorandum in the Federal Register.

Joseph R. Biden, Jr., and Allison Walker,
USAID Global Health Security Technical Advisor.

[FR Doc. 2023-03246 Filed 2-15-23; 8:45 am]

BILLING CODE 6116-01-P